DEPARTMENT OF AGRICULTURE

Forest Service

Pickett Lake and Padre Canyon Allotments, Coconino National Forest; Coconino County, AZ

AGENCY: Forest Service, USDA.

ACTION: Notice of intent to prepare an environmental impact statement.

SUMMARY: The USDA Forest Service will prepare an environmental impact statement (EIS) to disclose the environmental effects of authorizing cattle grazing on the Picket Lake and Padre Canyon Allotments.

DATES: Comments concerning the scope of the analysis should be received within 30 days of the date of publication of this Notice of Intent in the Federal Register. The draft EIS is expected to be published in December 2004 and the final EIS is expected in February 2005.

ADDRESSES: Send written comments to Terri Marceron, Mormon Lake District Ranger, 4373 South Lake Mary Road, Flagstaff, Arizona 86001, Fax: (928) 214-2460, e-mail: comments-southwestern-coconino-mormon-lake@fs.fed.us.

FOR FURTHER INFORMATION CONTACT: Michael Hannemann, Range Staff, or Katherine Sánchez Meador, Range Specialist, Peaks Ranger District, 5075 N Highway 89, Flagstaff, Arizona 86004, (928) 526-0866.

SUPPLEMENTARY INFORMATION: The Pickett Lake and Padre Canyon Allotments are adjacent cattle grazing allotments located approximately nine miles southeast of Flagstaff, Arizona. The Pickett Lake and Padre Canyon Allotments consist of 34,814 and 20,993 acres, respectively. The current Pickett Lake Allotment permit is of 758 cattle from June 1 to October 31. The current Padre Canyon Allotment permit is for 87 cattle from June 1 to October 31. Both Pickett Lake and Padre Canyon grazing permits are issued to the same permittee. This joint ownership makes management coordination between the two allotments possible.

Grazing has occurred continuously on the Pickett Lake and Padre Canyon Allotments since the mid-1880s. Since that time, the Forest Service has reduced cattle numbers and controlled cattle grazing periods more strictly. Cattle grazing management has improved over time with the construction of fences and waters by the Forest Service and permittees. Over the last ten years, cattle numbers on the Pickett Lake Allotment have varied from a high of 758 cattle in 1994 to a low of 300 cattle in 2002. Over the last ten years, cattle numbers on the Padre Canyon Allotment have varied from a high of 87 in 1995 to non-use in 1996, 2000, 2002, 2003, and 2004.

The Pickett Lake and Padre Canyon Allotments are scheduled for environmental analysis of grazing use on the Coconino National Forest, as required by the Burns Amendment (1995). This project was initiated in December 2000 as an EIS and the Proposed Action included cattle grazing, pinyon and juniper treatments, and broadcast burning. After initial public scoping and comment, the Forest Service decided to narrow the scope of the project to analyze only cattle grazing under an environmental assessment (EA). A revised Proposed Action was presented for public scoping in August 2002 and a draft EA published in July 2003. On September 14, 2004, a notice to withdraw the NOI for the EIS was published in the Federal Register (volume 69, number 177, page 55403), because it was imminent that a Decision Notice and FONSI were to be signed.

Based on the controversy over the effects of cattle grazing on pronghorn habitat on the Anderson Mesa portion of these allocation, the responsible official has decided to initiate this analysis as an EIS. This project is being completed in order to ensure cattle grazing on the Pickett Lake and Padre Canyon Allotments is consistent with goals, objectives, as well as the standards and guidelines of the Coconino National Forest Plan (1987, as amended). The Proposed Action for the EIS is primarily based upon the preferred Alternative from the unreleased final EA, Alternative E. This alternative was created after comments on the draft EA were analyzed. The publication of this NOI begins the NEPA process and initiates a 30 day scoping period.

Purpose and Need for Action

The purpose of this project is to continue cattle grazing on the Pickett Lake and Padre Canyon Allotments. There is a need to maintain and/or improve rangeland conditions, and to maintain and protect seasonal and semi-permanent wetlands which includes those wetlands with emergent vegetation on the two allotments. There is also a need to maintain the permittee's access to their water right and consider current water claims within the allotments.

Proposed Action

The Proposed Action would authorize grazing on the Pickett Lake and Padre Canyon allotments while reducing overall cattle use, reducing cattle graze periods, and increasing pasture rest periods. Grazing rotations would be adjusted so cattle do not graze in seasonal and semi-permanent wetlands containing emergent vegetation from June 1 to July 15. No cattle grazing would occur on these allotments at all between May 1 and May 31.

Cattle use on the Pickett Lake Allotment would be reduced 14% by combining the management of these two allotments and shortening the grazing season (currently June 1 to October 31) from June 1 to September 30. Combining the allotments would reduce the pasture graze periods above the rim from five to three months above the Anderson Mesa Rim and from five months to one month below the rim.

The Proposed Action would establish a 35% utilization limit by cattle and/or elk during cattle grazing season. When pasture use approaches 35% by cattle and/or elk, cattle would move to the next pasture in the rotation. If elk use exceeds 35% in a pasture before cattle enter a pasture, cattle would skip this pasture and move to the next pasture in the rotation.

Up to 1.5 miles of fence, in sections, would be constructed in the Elliot Driveway pasture to keep cattle from moving down the Anderson Mesa Rim, and for a small holding pasture in the western corner of the Elliot Driveway pasture. Four miles of pipeline (connected to a well on private land) and five drinkers would be constructed to improve water distribution below the Anderson Mesa Rim. Exclosure fences would be built to protect the hardstem bulrush and surrounding upland buffer at Post and Perry Lakes, with a lane to the stock tank water right at Perry Lake. Exclosure fences would also be built around the emergent vegetation and surrounding upland buffer at Ducknest and Indian Tank Lakes, with a lane to the stock tank water in Indian Tank Lake. Two short road segments within or near Post and Perry Lakes would be closed.

The Proposed Action also includes an adaptive management option to fence Boot, Breezy, West Breezy and Indian Lakes, with a lane to the stock tank waters in Boot and Indian Lakes. To maintain rangeland condition, or for increased flexibility in pasture rotations, the emergent vegetation and the surrounding upland buffer would be fenced at these four wetlands. Fencing would be completed as funding becomes available. These wetlands would likely be fenced within three years. Up to 20% use by cattle on emergent and woody vegetation at Boot and Billy Back Springs would be allowed. If use, by cattle, exceeds this a fence would be constructed by the permittee to exclude cattle use at these two springs.

Possible Alternatives

In addition to the Proposed Action, three other alternatives have been developed for preliminary analysis. One alternative (Current Management) will consider the effects of continuing the current cattle grazing management system on the two allotments. Another alternative (No Action/No Grazing) will consider the effects of closing Pickett Lake and Padre Canyon Allotments to cattle grazing for a ten-year period. Another alternative (Reduction in Utilization) will study the effects of reducing the cattle and/or elk utilization standard (during the cattle grazing season) to 20% on both allotments. The cattle numbers would also be reduced by 15% in this alternative. The development of any other alternatives will be completed following public response to scoping and published in the draft EIS.

Responsible Official

The responsible official for this project is the Mormon Lake District Ranger.

Nature of Decision To Be Made

Based upon the effects of the different alternatives, the responsible official will either decide to implement the Proposed Action, another action alternative, combinations of components from several alternatives, or to not reauthorize grazing for a ten-year period on the allotments at this time.

Scoping Process

Scoping is an ongoing process throughout the planning process. This Notice of Intent serves as the scoping process under NEPA, which will guide development of the EIS. A copy of this Notice of Intent will be mailed to those people and organizations on The Coconino National Forest's mailing list that have indicated a specific interest in the Pickett Lake and Padre Canyon Allotments or grazing management in general. A press release announcing the filing of this Notice of Intent will be sent to local newspapers and media. The public will be notified of any meetings regarding this proposal by mailings and press releases sent to the local newspaper and media. No meetings are planned at this time.

Preliminary Issues

During development of the draft EA, two issues were identified. The first issue involves wetlands and how the proposed cattle grazing system and utilization levels affect seasonal and semi-permanent wetlands habitat for ground-nesting birds and riparian vegetative health within wetlands. The second issue is concerned with the proposed utilization level of 35%, which may inhibit grass plants' growth, reduce vertical height, and remove too many seed heads. A 35% utilization level may also lessen plants' ability to grow to maturity, build necessary root mass, or propagate. the Proposed Action and a Reduction in Utilization Alternative have been developed to address these issues.

Comments Requested

A draft EIS will be prepared for comments. The comment period on the draft EIS will be 45 days from the date the Environmental Protection Agency publishes the Notice of Availability in the Federal Register.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection. Comments submitted anonymously will be accepted and considered; however, those who submit anonymous comments will not have standing to appeal the subsequent decision under 36 CFR part 215. Additionally, pursuant to 7 CFR 1.27(d), any person may request the agency to withhold a submission from the public record by showing how the Freedom of Information Act (FOIA) permits such confidentiality.

Persons requesting such confidentiality should be aware that, under the FOIA, confidentiality may be granted in only very limited circumstances, such as to protect trade secrets. The Forest Service will inform the requester of the agency's decision regarding the request for confidentiality, and if the request is denied, the agency will return the submission and notify the requester that the comments may be resubmitted with or without name and address within a specified number of days.

(Authority: 40 CFR 1501.7 and 1508.22; Forest Service Handbook 1909.15, Section 21.)

Dated: October 28, 2004.
Joseph P. Stringer,
Deputy Forest Supervisor.

[FR Doc. 04-24510 Filed 11-2-04; 8:45 am]

BILLING CODE 3410-11-M